DEPARTMENT OF COMMERCE

Office of the Secretary

Estimates of the Voting Age Population for 2015

AGENCY: Office of the Secretary, Commerce.

ACTION: General Notice Announcing Population Estimates.

SUMMARY: This notice announces the voting age population estimates as of July 1, 2015, for each state and the District of Columbia. We are providing this notice in accordance with the 1976 amendment to the Federal Election Campaign Act, Title 52, United States Code, Section 30116(e).

FOR FURTHER INFORMATION CONTACT: Karen Humes, Chief, Population Division, U.S. Census Bureau, Room HQ-5H174, Washington, DC 20233, at 301-763-2071.

SUPPLEMENTARY INFORMATION: Under the requirements of the 1976 amendment to the Federal Election Campaign Act, Title 52, United States Code, Section 30116(e), I hereby give notice that the estimates of the voting age population for July 1, 2015, for each state and the District of Columbia are as shown in the following table.

Estimates of the Population of Voting Age for Each State and the District of Columbia: July 1, 2015
Area | Population 18 and over | Area | Population 18 and over
United States | 247,773,709
Alabama | 3,755,483 | Missouri | 4,692,196
Alaska | 552,166 | Montana | 806,529
Arizona | 5,205,215 | Nebraska | 1,425,853
Arkansas | 2,272,904 | Nevada | 2,221,681
California | 30,023,902 | New Hampshire | 1,066,610
Colorado | 4,199,509 | New Jersey | 6,959,192
Connecticut | 2,826,827 | New Mexico | 1,588,201
Delaware | 741,548 | New York | 15,584,974
District of Columbia | 554,121 | North Carolina | 7,752,234
Florida | 16,166,143 | North Dakota | 583,001
Georgia | 7,710,688 | Ohio | 8,984,946
Hawaii | 1,120,770 | Oklahoma | 2,950,017
Idaho | 1,222,093 | Oregon | 3,166,121
Illinois | 9,901,322 | Pennsylvania | 10,112,229
Indiana | 5,040,224 | Rhode Island | 845,254
Iowa | 2,395,103 | South Carolina | 3,804,558
Kansas | 2,192,084 | South Dakota | 647,145
Kentucky | 3,413,425 | Tennessee | 5,102,688
Louisiana | 3,555,911 | Texas | 20,257,343
Maine | 1,072,948 | Utah | 2,083,423
Maryland | 4,658,175 | Vermont | 506,119
Massachusetts | 5,407,335 | Virginia | 6,512,571
Michigan | 7,715,272 | Washington | 5,558,509
Minnesota | 4,205,207 | West Virginia | 1,464,532
Mississippi | 2,265,485 | Wisconsin | 4,476,711
|  | Wyoming | 447,212
Source: U.S. Census Bureau, Population Division, Vintage 2015 Population Estimates.

I have certified these estimates for the Federal Election Commission.

Dated: January 21, 2016.
Penny Pritzker,
Secretary, U.S. Department of Commerce.

[FR Doc. 2016-02019 Filed 2-3-16; 8:45 am]

BILLING CODE 3510-07-P